Title 3—

The President

Memorandum of December 15, 2022

Certifications Regarding Disclosure of Information in Certain Records Related to the Assassination of President John F. Kennedy

Memorandum for the Heads of Executive Departments and Agencies

Section 1. Policy. As set forth in the Presidential Memorandum of October 22, 2021 (Temporary Certification Regarding Disclosure of Information in Certain Records Related to the Assassination of President John F. Kennedy) (2021 Memorandum), in the President John F. Kennedy Assassination Records Collection Act of 1992 (44 U.S.C. 2107 note) (the “Act”), the Congress declared that “all Government records concerning the assassination of President John F. Kennedy . . . should be eventually disclosed to enable the public to become fully informed about the history surrounding the assassination.” The Congress also found that “most of the records related to the assassination of President John F. Kennedy are almost 30 years old, and only in the rarest cases is there any legitimate need for continued protection of such records.” In the 30 years since the Act became law, the profound national tragedy of President Kennedy's assassination continues to resonate in American history and in the memories of so many Americans who were alive on that terrible day; meanwhile, the need to protect records concerning the assassination has weakened with the passage of time. It is therefore critical to ensure that the United States Government maximizes transparency by disclosing all information in records concerning the assassination, except when the strongest possible reasons counsel otherwise.

Sec. 2. Background. (a) The Act permits the continued postponement of disclosure of information in records concerning President Kennedy's assassination only when postponement remains necessary to protect against an identifiable harm to the military defense, intelligence operations, law enforcement, or the conduct of foreign relations that is of such gravity that it outweighs the public interest in disclosure. Since 2018, executive departments and agencies (agencies) have been reviewing under this statutory standard each redaction they have proposed that would result in the continued postponement of full public disclosure, with the National Archives and Records Administration (NARA) reviewing whether it agrees that each redaction continues to meet the statutory standard. In my 2021 Memorandum, the Archivist of the United States (Archivist) explained that the COVID-19 pandemic had a significant impact on the ability of agencies, including NARA, to conduct this review and comprehensive engagement, and the Archivist recommended that I temporarily certify the records for continued postponement for a limited period. In the 2021 Memorandum, I directed the completion of an intensive 1-year review of each remaining proposed redaction to ensure that the United States Government maximizes transparency by disclosing all information in records related to the assassination, except in cases when the strongest possible reasons counsel otherwise.

(b) Pursuant to my direction, agencies have undertaken a comprehensive effort to review the full set of almost 16,000 records that had previously been released in redacted form and determined that more than 70 percent of those records may now be released in full. This significant disclosure reflects my Administration's commitment to transparency and will provide the American public with greater insight and understanding of the Government's investigation into this tragic event in American history.

(c) In the course of their review, agencies have identified a limited number of records containing information for continued postponement of public disclosure. NARA has reviewed these proposed redactions and has coordinated with relevant consulting agencies, where appropriate, to ensure that the proposed redactions meet the statutory standard for continued postponement. The Acting Archivist has recommended certifying a small subset of the reviewed records for continued postponement of public disclosure.

(d) The Acting Archivist has further indicated that additional work remains to be done with respect to a limited number of other reviewed records that were the subject of agency proposals for continued postponement of public disclosure. The Acting Archivist believes such additional work could further reduce the amount of redacted information. The Acting Archivist therefore recommends that I temporarily certify the continued postponement of public disclosure of the redacted information in these records to provide additional time for review and to ensure that information from these records is disclosed to the maximum extent possible, consistent with the standards of the Act.

Sec. 3. Certification. In light of the proposals from agencies for continued postponement of public disclosure of information in the records identified in section 2(c) of this memorandum under the statutory standard, and the Acting Archivist's recommendation, I agree that continued postponement of public disclosure of such information is warranted to protect against an identifiable harm to the military defense, intelligence operations, law enforcement, or the conduct of foreign relations that is of such gravity that it outweighs the public interest in disclosure. Accordingly, by the authority vested in me as President by the Constitution and the laws of the United States of America, including section 5(g)(2)(D) of the Act, I hereby certify that continued postponement of public disclosure of these records is necessary to protect against an identifiable harm to the military defense, intelligence operations, law enforcement, or the conduct of foreign relations that is of such gravity that it outweighs the public interest in disclosure. All information within these records that agencies have proposed for continued postponement under section 5(g)(2)(D) of the Act shall accordingly be withheld from public disclosure. Further release of the information in these records shall occur in a manner consistent with the Transparency Plans described in section 7 of this memorandum.

Sec. 4. Temporary Certification. In light of the proposals from agencies for continued postponement of public disclosure of information in the records identified in section 2(d) of this memorandum under the statutory standard, the Acting Archivist's request for an extension of time to continue review of those records, and the need for an appropriately thorough review process, I agree with the Acting Archivist's recommendation regarding temporary postponement. Temporary continued postponement of public disclosure of such information is necessary to protect against an identifiable harm to the military defense, intelligence operations, law enforcement, or the conduct of foreign relations that is of such gravity that it outweighs the public interest in disclosure. Accordingly, by the authority vested in me as President by the Constitution and the laws of the United States of America, including section 5(g)(2)(D) of the Act, I hereby certify that all information within these records that agencies have proposed for continued postponement under section 5(g)(2)(D) of the Act shall be withheld from public disclosure until June 30, 2023.

Sec. 5. Release. Any information currently withheld from public disclosure that agencies have not proposed for continued postponement shall be released to the public by December 15, 2022.

Sec. 6. Review. (a) From the date of this memorandum until May 1, 2023, relevant agencies and NARA shall jointly review the remaining redactions in the records addressed in sections 2(d) and 4 of this memorandum with a view to maximizing transparency and disclosing all information in records concerning the assassination, except when the strongest possible reasons counsel otherwise. Any information that agencies propose for continued postponement of public release beyond June 30, 2023, shall be limited to the absolute minimum under the statutory standard. Agencies shall not propose to continue redacting information unless the redaction is necessary to protect against an identifiable harm to the military defense, intelligence operations, law enforcement, or the conduct of foreign relations that is of such gravity that it outweighs the public interest in disclosure. In applying the statutory standard, agencies shall:

(i) accord substantial weight to the public interest in transparency and full disclosure of any record that falls within the scope of the Act; and

(ii) give due consideration that some degree of harm is not grounds for continued postponement unless the degree of harm is of such gravity that it outweighs the public interest in disclosure.

(b) If, by no later than May 1, 2023, NARA agrees that a proposed redaction meets the statutory standard for continued postponement, the Archivist shall recommend to the President, no later than May 1, 2023, that continued postponement of public disclosure of the information is warranted after June 30, 2023.

(c) If, by no later than May 1, 2023, NARA does not recommend that a proposed redaction meets the statutory standard for continued postponement, agencies shall, no later than May 15, 2023:

(i) withdraw the proposed redaction; or

(ii) recommend to the President, through the Counsel to the President, on a document-by-document basis, that release of the information continue to be postponed, providing an explanation for each proposed redaction of why continued postponement remains necessary to protect against an identifiable harm to the military defense, intelligence operations, law enforcement, or the conduct of foreign relations that is of such gravity that it outweighs the public interest in disclosure.

(d) In the development of the recommendations described in this section, as questions arise about particular proposed redactions, NARA shall consult, as appropriate, with relevant agencies as described in section 5(d) of my 2021 Memorandum.

(e) At the conclusion of the review described in this section, any information withheld from public disclosure that agencies do not propose for continued postponement beyond June 30, 2023, shall be released to the public by that date.

Sec. 7. Transparency Plans. As part of their review, each agency prepared a plan for the eventual release of information (Transparency Plan) to ensure that information would continue to be disclosed over time as the identified harm associated with release of the information dissipates. Each Transparency Plan details the event-based or circumstance-based conditions that will trigger the public disclosure of currently postponed information by the National Declassification Center (NDC) at NARA. These Transparency Plans have been reviewed by NARA, and the Acting Archivist has advised that use of the Transparency Plans by the NDC will ensure appropriate continued release of information covered by the Act. Accordingly, I direct that the Transparency Plans submitted by agencies be used by the NDC to conduct future reviews of any information that has been postponed from public disclosure, including information in the records described in sections 2(c) and 3 of this memorandum.

Sec. 8. Publication. The Acting Archivist is hereby authorized and directed to publish this memorandum in the Federal Register.

THE WHITE HOUSE,

Washington, December 15, 2022

[FR Doc. 2022-27812

Filed 12-19-22; 11:15 am]

Billing code 3395-F3-P